FEDERAL COMMUNICATIONS COMMISSION

47 CFR Part 73

[DA 00-2111, MM Docket No. 99-284; RM-9697)

Radio Broadcasting Services; Galveston and Missouri City, TX

AGENCY: Federal Communications Commission.

ACTION: Proposed rule.

SUMMARY: This document requests further comment on a proposal filed on behalf of KQQK License, Inc., licensee of Station KQQK-FM, Channel 293C, Galveston, Texas, proposing the reallotment of Channel 293C from Galveston to Missouri City, Texas, and the modification of the Station KQQK-FM license to specify Missouri City as the community of license. 64 FR 55223, published October 12, 1999. The original Notice of Proposed Rule Making proposed the modification of the Station KQQK-FM license as a first local service for Missouri City. However, on August 30, 2000, the Commission adopted a Report and Order in MM Docket No. 99-26, DA 00-2057, released September 8, 2000, which substituted Channel 287A for Channel 285A at Galveston, Texas, reallotted Channel 287A to Missouri City, and modified the license of Station KLTO to specify operation on Channel 287A at Missouri City. As a consequence, the proposal in this proceeding will no longer be providing a first local service to Missouri City. For this reason, the Commission is affording KQQK License and other interested parties an opportunity to comment on the proposal in the context of a competitive service for Missouri City and the removal of the sole local FM service from Galveston.

DATES: Comments must be filed on or before November 7, 2000, and reply comments on or before November 22, 2000.

ADDRESSES: Secretary, Federal Communications Commission, Washington, DC, 20554. In addition to filing comments with the FCC, interested parties should serve the petitioner's counsel, as follows: Lawrence Roberts, Mary L. Plantamura, c/o Davis Wright Tremaine, LLP, 1155 Connecticut Ave. NW Suite 700, Washington, D.C. 20036.

FOR FURTHER INFORMATION CONTACT: Robert Hayne, Mass Media Bureau, (202) 418-2177.

SUPPLEMENTARY INFORMATION: This is a synopsis of the Commission's Further Notice of Proposed Rule Making in MM Docket No. 99-284, adopted September 13, 2000, and released September 15, 2000. The full text of this Commission action is available for inspection and copying during normal business hours in the FCC Reference Information Center at Portals II, CY-A257, 445 12th Street, SW, Washington, D.C. The complete text of this action may also be purchased from the Commission's copy contractor, International Transcription Service, Inc., (202) 857-3800, 1231 20th Street, Washington, D.C. 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts. For information regarding proper filing procedures for comments, See 47 CFR 1.415 and 1.420.

Federal Communications Commission.
John A. Karousos,
Chief, Allocations Branch, Policy and Rules Division, Mass Media Bureau.

[FR Doc. 00-24646 Filed 9-25-00; 8:45 am]

BILLING CODE 6712-01-P